Title 3—

The President

Proclamation 9382 of December 16, 2015

Wright Brothers Day, 2015

By the President of the United States of America

A Proclamation

The prospect of human flight captured the world's imagination for centuries. From the ancient Greeks who marveled at the story of Icarus soaring through the sky, to Leonardo da Vinci who sketched designs of manned mechanical gliders, humanity's unyielding push skyward speaks to our resolve to transcend limits and redefine what is possible. On December 17, 1903, two American brothers reached a milestone in this age-old pursuit by, after years of planning and research, successfully launching the world's first flight of a powered airplane. On Wright Brothers Day, our Nation commemorates this achievement and celebrates the spirit of innovation that drives American inventors, entrepreneurs, and scientists by reaffirming our support for them in their goals to push the boundaries of human capability.

Our country's founding ideals of freedom of thought and expression are not only necessary for upholding the inherent dignity and respect of every individual, but they are also fundamental ingredients for fostering scientific discovery. These values compelled the Pilgrims to set out and seek new lives and prompted revolutionaries to forge a new Nation. The great thinkers and innovators that have always moved America forward have done so by challenging convention, sharing ideas, and reimagining the future through new inventions and beliefs.

Before the 19th century, few thought human flight was an endeavor worth investigating. But in the decades leading up to the 20th century, a handful of devoted dreamers began conducting aeronautical research that eventually fell on the ears of two enthusiastic bicycle mechanics from Dayton, Ohio, who would push past what others deemed impossible and take to the sky, spark a new and lasting industry, and change the course of history. Wilbur and Orville Wright spent their childhood tinkering and building, their passions fueled by their mother, Susan, who shared these interests and had considerable mechanical skills. The brothers opened a bicycle shop, where they honed their understanding of the concepts of balance, control, aerodynamics, and lightweight yet sound structures—laying the foundation for their groundbreaking achievement. Years of meticulous observation, building, and experimentation culminated on one frigid, windy morning on a sandy beach in Kitty Hawk, North Carolina, where the Wright brothers made their successful flight.

The invention of the airplane not only contributed to our understanding of physics and engineering—it profoundly altered our world. People and goods began moving across the globe at an unprecedented pace, new industries and fields of discovery sprang to life, and advances in aviation launched a new era of possibility in which our countrymen would walk on the moon just 66 years after that first 12 second flight.

Today, American entrepreneurs and scientists are continuing the legacy of the Wright brothers by making new discoveries and pushing boundaries—from the furthest reaches of our universe to the greatest mysteries of the human brain. To keep our Nation on the forefront of breakthroughs that will define the future, we must continue investing in pioneering research, innovative startups, and programs that encourage science, technology, engineering, and math education for our daughters and sons. And we must keep fostering an atmosphere in our communities and classrooms where lifetime quests for knowledge are encouraged, where glimmers of curiosity are sparked, and where the next generation of explorers and inventors are celebrated. On Wright Brothers Day, let us recommit to cultivating the insatiable hunger for advancement that takes humanity to new frontiers, and let us stand with those who never stop challenging the limits of what we know to be possible.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2015, as Wright Brothers Day.

IN WITNESS WHEREOF, I have hereunto set my hand this sixteenth day of December, in the year of our Lord two thousand fifteen, and of the Independence of the United States of America the two hundred and fortieth.

[FR Doc. 2015-32245

Filed 12-18-15; 11:15 am]

Billing code 3295-F6-P